DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of September 23, 2017 through October 20, 2017. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) the sales or production, or both, of such firm, have decreased absolutely;

AND (ii and iii below)

(ii)(I) imports of articles or services like or directly competitive with articles produced or services supplied by such firm have increased OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i)(I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1));

OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) not withstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
91,895 | Jones Energy, Inc | Austin, TX | May 23, 2015.
92,076 | SPX Heat Transfer, LLC, Power Segment, SPX Corporation | Tulsa, OK | July 29, 2015.
92,107 | Keurig Green Mountain, Inc., Blacktree Technical Group, Manpower, Randstad Staffing, Westaff, etc | Essex, VT | August 11, 2015.
92,107A | Keurig Green Mountain, Inc., Blacktree Technical Group, Manpower, Randstad Staffing, Westaff, etc | Williston, VT | August 11, 2015.
92,256 | Ball Corporation, Food and Aerosol Division, Manpower | Weirton, WV | September 30, 2016.
92,721 | Nippon Paper Industries USA Co. Ltd, Daishowa North American Corp., Express Employment Professionals | Port Angeles, WA | March 9, 2016.
92,949 | FreightCar, Roanoke, LLC, FreightCar America, @Work Personnel Services, Chase Professionals, etc | Roanoke, VA | June 13, 2016.
92,952 | Eagle Family Foods Group LLC, Hire Advantage, Express Employment Professionals, Touches of Splendor | Seneca, MO | June 14, 2016.
93,069 | Callidus Technologies, LLC, Honeywell International, Inc., Securitas USA, JLL Americas | Beggs, OK | August 10, 2016.
93,084 | Armstrong Hardwood Flooring Company, Armstrong Wood Products, Inc., Armstrong Flooring, Inc | Jackson, TN | August 18, 2016.
93,107 | Quality Mold, Inc. dba Versitech, QM Holdings, Inc | Greenwich, OH | August 29, 2016.

The following certifications have been issued. The requirements of Section 222(a)(2)(B) (Shift in Production or Services to a Foreign Country Path or Acquisition of Articles or Services from a Foreign Country Path) of the Trade Act have been met.

TA-W No. | Subject firm | Location | Impact date
92,664 | Branded Entertainment Network, Inc., Corbis Corporation, Hudson Street Facility, etc | New York, NY | February 22, 2016.
92,664A | Branded Entertainment Network, Inc., Corbis Corporation, Varick Street Facility, etc | New York, NY | February 22, 2016.
92,678 | Burroughs Inc | Plymouth, MI | February 24, 2016.
92,697 | Felchar Manufacturing Corporation, Shop Vac Corporation, Eastern Temporaries, Adecco, 196 Corporate Drive | Binghamton, NY | March 3, 2016.
92,697A | Felchar Manufacturing Corporation, Shop Vac Corporation, Eastern Temporaries, Adecco, 47-51 Pine Camp Drive | Binghamton, NY | March 3, 2016.
92,911 | American Silk Mills LLC | Plains, PA | May 24, 2016.
92,971 | The Carlstar Group, LLC, Priority Workforce, Arrow Staffing | Ontario, CA | June 22, 2016.
92,984 | Bear Island White Birch LLC, BD White Birch Investment, LLC | Ashland, VA | June 30, 2016.
93,039 | Unum Group, Finance, EXL Services Holdings, Anaplan, KPMG, Price Waterhouse Coopers | Chattanooga, TN | July 25, 2016.
93,049 | Ecoshel, Aroostook County Action Program (ACAP) | Ashland, ME | July 31, 2016.
93,076 | API Heat Transfer | Buffalo, NY | August 7, 2016.
93,077 | Fargo Assembly of Mississippi, LLC, Electrical Components International, Inc | Kosciusko, MS | August 16, 2016.
93,089 | Huntington Foam LLC, Huntington Solutions, Corporate Office, Contingent Resource Solutions, etc | Jeannette, PA | August 21, 2016.
93,092 | St. Vincent Health, Inc., Financial Pre-Clearance Group, Ascension Health | Indianapolis, IN | August 18, 2016.
93,093 | International Business Machines (IBM) Systems & Technology, AIX System and Verification/Integrated System Software Test, 7T, etc | Austin, TX | August 16, 2016.
93,095 | Vesuvius USA, Flow Control Division | Tyler, TX | August 24, 2016.
93,108 | Interplex Automation, Interplex Holdings, Tooling Group | Attleboro, MA | August 30, 2016.
93,112 | Kongsberg Automotive, Kongsberg Actuation, II, Fluid Transfer, Human Technologies, Staff Masters | Easley, SC | September 1, 2016.
93,115 | Great-West Life &amp; Annuity Insurance Company, GWL&A Financial Inc., Corestaff Services, Inc | Greenwood Village, CO | August 21, 2016.
93,117 | CoreLogic Solutions, LLC, Accounting-Collections, Staffmark Investment LLC, Xoriant | Irvine, CA | September 6, 2016.
93,119 | Health Care Solutions at Home Inc., Regional Cash Posting Center, Lincare Holdings Inc | Sharon, PA | September 6, 2016.
93,123 | Boehringer Ingelheim, ProUnlimited, YOH Services | Ridgefield, CT | September 7, 2016.
93,125 | Railtech Composites, Inc., Skyfold, Inc., Coryer Staffing | Plattsburgh, NY | September 7, 2016.
93,129 | Porter's Group Sumter LLC, Porter's Fab of Sumter | Sumter, SC | September 8, 2016.
93,131 | Lake Catherine Footwear, Munro &amp; Company, Inc | Hot Springs, AR | September 11, 2016.
93,132 | American Made LLC dba US Liner Company, Harmony Plant, Callos Resources, Manpower | Harmony, PA | September 8, 2016.
93,134 | HERE North America LLC, HERE Holding Corporation | Fargo, ND | September 12, 2016.
93,135 | Panasonic Eco Solutions Solar America, LLC, Panasonic Corporation of North America, BDI | Salem, OR | September 12, 2016.
93,138 | Harman, Professional Solutions, Harman International Industries, Accountemps, etc | South Jordan, UT | September 13, 2016.
93,138A | Harman, Professional Solutions, Harman International Industries, Inc | Northridge, CA | September 13, 2016.
93,141 | Lincare Inc., Regional Cash Posting Center, Lincare Holdings Inc | Spokane, WA | September 13, 2016.
93,144 | HSBC Technology and Services, USA (HTSU), HSBC Technology and Services (IT Division), HSBC North America, etc | Buffalo, NY | September 15, 2016.
93,147 | APEM, Inc., APEM SAS, The Plus Company, Inc. | Haverhill, MA | September 18, 2016.
93,148 | H.B. Fuller Company, Global Finance, North American Shared Services, Credit and Collections, etc | Vadnais Heights, MN | September 15, 2016.
93,149 | Health Care Service Corporation, Information Technology (Infrastructure) Services | Helena, MT | September 15, 2016.
93,150 | Philips Electronics N.A. Corporation, Philips Medical Refurbished Systems, Koninklijke Philips N.V., etc | Cleveland, OH | September 15, 2016.
93,151 | Thomson Reuters, Technology Development and Quality Assurance groups, Pontoon | Boston, MA | September 18, 2016.
93,158 | Valpak Direct Marketing Systems, Inc., Content & Design Departments, SoloWorkforce, ASEC Group, Personiv, etc | St. Petersburg, FL | September 19, 2016.
93,166 | Boca Raton Regional Center, TYCO, Johnson Controls, KForce, Robert Half | Boca Raton, FL | September 21, 2016.

The following certifications have been issued. The requirements of Section 222(b) (supplier to a firm whose workers are certified eligible to apply for TAA) of the Trade Act have been met.

TA-W No. | Subject firm | Location | Impact date
92,839 | Dura Automotive Systems, LLC, Furst Staffing, Manpower Group | Stockton, IL | April 25, 2016.
92,847 | Parkdale Mills, Inc., Plant 44, Parkdale America, LLC, Parkdale, Inc., Defender Services, Inc | Williamston, NC | April 26, 2016.
93,054 | Ulbrich Solar Technologies, LLC, Ulbrich Solar Technologies, Inc., Express Services | Hillsboro, OR | August 2, 2016.

The following certifications have been issued. The requirements of Section 222(e) (firms identified by the International Trade Commission) of the Trade Act have been met.

TA-W No. | Subject firm | Location | Impact date
93,152 | ArcelorMittal Riverdale LLC, ArcelorMittal USA LLC, Adecco, Phoenix, KT Grant | Riverdale, IL | September 29, 2015.
93,157 | Nucor Corporation, Nucor Steel Arkansas Division | Blytheville, AR | September 29, 2015.
93,160 | EVRAZ Oregon Steel, Rolling Facility, EVRAZ Inc. NA, EVRAZ North America PLC, etc | Portland, OR | September 29, 2015.
93,170 | SSAB Iowa, Inc., SSAB Enterprises, LLC, LPW-I, JW Koehler Electric Inc | Muscatine, IA | September 29, 2015.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
93,047 | Trine Aspects, Limited | New York, NY. |

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
92,611 | Tektronix, Inc., Adecco | Beaverton, OR. |
92,945 | APL Logistics Warehouse Management Services, Inc., Progress Rail | Hodgkins, IL. |
92,995 | Dell Products, L.P., Research and Development, Networking Test Engineering, etc | Round Rock, TX. |
93,110 | Encap Technologies, Inc., Production Workers | Palatine, IL. |
93,113 | North East Foundry, Inc. dba REMMCO Inc | North East, PA. |

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
92,611 | Tektronix, Inc., Adecco | Beaverton, OR. |
92,945 | APL Logistics Warehouse Management Services, Inc., Progress Rail | Hodgkins, IL. |
92,995 | Dell Products, L.P., Research and Development, Networking Test Engineering, etc | Round Rock, TX, |
93,110 | Encap Technologies, Inc., Production Workers | Palatine, IL. |
93,113 | North East Foundry, Inc. dba REMMCO Inc | North East, PA. |

Determinations Terminating Investigations of Petitions for Trade Adjustment Assistance

After notice of the petitions was published in the Federal Register and on the Department's Web site, as required by Section 221 of the Act (19 U.S.C. 2271), the Department initiated investigations of these petitions.

The following determinations terminating investigations were issued in cases where the petition regarding the investigation has been deemed invalid.

TA-W No. | Subject firm | Location | Impact date
92,450 | Impresa Aerospace LLC | Wichita, KS. |
92,958 | Alamac Investors LLC, Alamac American Knits | Lumberton, NC. |

The following determinations terminating investigations were issued because the worker group on whose behalf the petition was filed is covered under an existing certification.

TA-W No. | Subject firm | Location | Impact date
92,959 | ASG Technologies Group, Inc | Phoenix, AZ. |
93,101 | Electrofilm Manufacturing Company LLC, EnviroTech LLC, Aerotek Commercial Staffing, Ronin Staffing LLC, etc | Valencia, CA. |
93,105 | M+W US, Inc | Plano, TX. |

The following determinations terminating investigations were issued because the petitioning group of workers is covered by an earlier petition that is the subject of an ongoing investigation for which a determination has not yet been issued.

TA-W No. | Subject firm | Location | Impact date
93,220 | Country Curtains, Fitzpatrick Companies | Richmond, VA. |

I hereby certify that the aforementioned determinations were issued during the period of September 23, 2017 through October 20, 2017. These determinations are available on the Department's Web site https://www.doleta.gov/tradeact/taa/taa_search_form.cfm under the searchable listing determinations or by calling the Office of Trade Adjustment Assistance toll free at 888-365-6822.

Signed at Washington, DC, this 27th day of October 2017.
Hope D. Kinglock,
Certifying Officer, Office of Trade Adjustment Assistance.

[FR Doc. 2017-25515 Filed 11-24-17; 8:45 am]

BILLING CODE 4510-FN-P